PEACE CORPS

Information Collection Request Under OMB Review

AGENCY: Peace Corps.

ACTION: Correction notice.

SUMMARY: The Peace Corps published a document in the Federal Register of July 11, 2011, [FR Doc. 2011-17273, pages 40755-40756], concerning request for comments on an information collection. This document corrects errors in that notice.

FOR FURTHER INFORMATION CONTACT: Denora Miller can be contacted by telephone at 202-692-1236 or e-mail at pcfr@peacecorps.gov.

Correction

On page 40756, in the first column, line four, should read:

“The Peace Corps invites the general public to comment on a proposed revision of a currently approved collection, Peace Corps Volunteer Application (OMB Control Number 0420-0005).”

On page 40756, in the first column, under the heading SUPPLEMENTARY INFORMATION (3) should read:

“Type of Review: Revision of a currently approved collection.”

Dated: July 19, 2011.
Earl W. Yates,
Associate Director, Management.

[FR Doc. 2011-18804 Filed 7-25-11; 8:45 am]

BILLING CODE 6051-01-P